DEPARTMENT OF TRANSPORTATION

Federal Aviation Administration

14 CFR Part 71

[Docket No. FAA-2003-14849; Airspace Docket No. 03-AWP-7]

Establishment of Class E Airspace; Beckwourth, CA

AGENCY: Federal Aviation Administration (FAA), DOT.

ACTION: Final rule.

SUMMARY: This action establishes a Class E airspace area at Beckwourth, CA. The establishment of an Area Navigation (RNAV) Global Positioning System (GPS) Instrument Approach Procedure (IAP) RNAV (GPS) Runway (RWY) 25, and two RNAV Departure Procedures (DP's) at Beckwourth-Nervino Airport, Beckwourth, CA has made this action necessary. Additional controlled airspace extending upward from 700 feet or more above the surface of the earth is needed to contain aircraft executing these RNAV procedures. The intended effect of this action is to provide adequate controlled airspace for Instrument Flight Rules operations at Beckwourth-Nervino Airport, Beckwourth, CA.

DATES: Effective Date: 0901 UTC August 5, 2004.

FOR FURTHER INFORMATION CONTACT: Jeri Carson, Airspace Specialist, Airspace Branch, AWP-520, Air Traffic Division, Western-Pacific Region, Federal Aviation Administration, 15000 Aviation Boulevard, Lawndale, California 90261, telephone (310) 725-6611.

SUPPLEMENTARY INFORMATION:

History

On April 7, 2004, the FAA proposed to amend 14 CFR part 71 by modifying the Class E airspace area at Beckwourth, CA (69 FR 18309). Additional controlled airspace extending upward from 700 feet or more above the surface is needed to contain aircraft executing the RNAV (GPS) RWY 25 IAP and RNAV DP's at Beckwourth-Nervino Airport. This action will provide adequate controlled airspace for aircraft executing the RNAV (GPS) RWY 25 IAP and RNAV DP's to Beckwourth-Nervino Airport, Beckwourth, CA.

Interested parties were invited to participate in this rulemaking proceeding by submitting written comments on the proposal to the FAA. No comments to the proposal were received. Class E airspace designations for airspace extending from 700 feet or more above the surface of the earth are published in paragraph 6005 of FAA Order 7400.9L, dated September 2, 2003, and effective September 16, 2003, which is incorporated by reference in 14 CFR 71.1. The Class E airspace designation listed in this document will be published subsequently in the Order.

The Rule

This amendment to 14 CFR part 71 establishes a Class E airspace area at Beckwourth, CA. The establishment of a RNAV (GPS) RWY 25 and two RNAV DP's to Beckwourth-Nervino Airport has made this action necessary. The effect of this action will provide adequate airspace for aircraft executing the RNAV (GPS) RWY 25 and RNAV DP's at Beckwourth-Nervino Airport, Beckwourth, CA.

The FAA has determined that this regulation only involves an established body of technical regulations for which frequent and routine amendments are necessary to keep them operationally current. Therefore, this regulation —(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E.O. 10854, 24 FR 9565, 3 CFR, 1959-1963 Comp., p. 389; 14 CFR 11.69.

§ 71.1 [Amended]

2. The incorporation by reference in 14 CFR 71.1 of the Federal Aviation Administration Order 7400.9L, Airspace Designations and Reporting Points, dated September 2, 2003, and effective September 16, 2003, is amended as follows:

Paragraph 6005 Class E airspace areas extending upward from 700 feet or more above the surface of the earth.

* * * * *

AWP CA E5 Beckwourth, CA [NEW]

Beckwourth-Nervino Airport, CA

(Lat. 39°49′07″ N, long. 120°21′10″ W)

Reno-Tahoe International Airport, NV

(Lat. 39°29′56″ N, long. 119°46′05″ W)

That airspace extending upward from 700 feet above the surface within a 6.5 mile radius of the Beckwourth-Nervino Airport and within 4 miles north and 2 miles south of the 100° bearing from the Beckwourth-Nervino Airport extending from 6.5-miles to 12 miles southeast of the Beckwourth-Nervino Airport and within 2 miles each side of the 250° bearing from the Beckwourth-Nervino Airport extending from 6.5 miles to 10 miles west of the Beckwourth-Nervino Airport, and that airspace bounded by a line beginning at lat. 40°00′00″N, long. 120°06′00″ W; to lat. 40°00′00″ N, long. 119°54′00″ W; to lat. 39°52′00″ N, long. 119°45′00″ W; thence counterclockwise via the 21.7-mile radius of the Reno/Tahoe International Airport to lat. 39°48′00″ N, long. 120°00′00″ W; to lat. 39°40′00″ N, long. 120°00′00″ W; to lat. 39°40′00″ N, long. 120°06′00″ W; to the point of beginning.

* * * * *

Issued in Los Angeles, California, on June 2, 2004.
John Clancy,
Manager, Air Traffic Division, Western-Pacific Region.

[FR Doc. 04-13298 Filed 6-10-04; 8:45 am]

BILLING CODE 4910-13-M